DEPARTMENT OF STATE

[Public Notice 4766]

Notice of Receipt of Application for Presidential Permit for the Construction of a New International Border Crossing

Notice is hereby given that the Department of State has received an application for a permit authorizing the construction, operation and maintenance of an international toll bridge in the Laredo, Texas area. The application has been filed by the County of Webb, Texas for a permit for a new crossing of the Rio Grande 7.6 miles downstream from the existing Gateway to the Americas Bridge (International Bridge I).

The Department's jurisdiction with respect to this application is based upon Executive Order 11423, dated August 16, 1968, as amended, and the International Bridge Act of 1972, (Pub. L. 92-343, 86 Stat. 731, approved September 26, 1972).

As required by E.O. 11423, the Department is circulating this application to concerned agencies for comment.

Interested persons may submit their views regarding this application in writing within thirty days from the publication date of this notice to Mr. Dennis M. Linskey, Coordinator, U.S.-Mexico Border Affairs, Room 4258, Department of State, 2201 C St., NW., Washington, DC 20520.

The application and related documents made part of the record to be considered by the Department of State in connection with this application are available for review in the Office of Mexican Affairs during normal business hours throughout the comment period.

Any questions related to this notice may be addressed to Mr. Linskey at the above address or by fax at (202) 647-5752.

Dated: July 13, 2004.
Dennis M. Linskey,
Coordinator U.S.-Mexico Border Affairs, Department of State.

[FR Doc. 04-16467 Filed 7-19-04; 8:45 am]

BILLING CODE 4710-29-P